DEPARTMENT OF AGRICULTURE

Forest Service

36 CFR Part 251

Special Uses; Processing of Applications, Issuance of Authorizations, and Communications Site Management

AGENCY: Forest Service, USDA.

ACTION: Issuance of proposed directives; notice of availability for public comment.

SUMMARY: The United States Department of Agriculture (USDA), Forest Service is proposing to issue a directive to implement parts of the Agriculture Improvement Act of 2018 and streamline the Agency's procedures for evaluating applications to locate or modify communications facilities on National Forest System (NFS) lands. The proposed directives would work in conjunction with the special use regulations published on April 8, 2020 to address the streamlining requirements of the Farm Bill.

DATES: Comments must be received in writing by July 6, 2020.

ADDRESSES: Comments may be submitted electronically to https://cara.ecosystem-management.org/Public/CommentInput?project=ORMS-2525. Written comments may be mailed to Director, Lands Staff, 1400 Independence Avenue SW, Washington, DC 20250-1124. All timely received comments, including names and addresses, will be placed in the record and will be available for public inspection and copying. The public may inspect comments received at https://cara.ecosystem-management.org/Public/ReadingRoom?project=ORMS-2525.

FOR FURTHER INFORMATION CONTACT: Joey Perry, Lands Staff, 530-251-3286 or joey.perry@usda.gov. Individuals who use telecommunication devices for the deaf may call the Federal Relay Service at 800-877-8339 between 8:00 a.m. and 8:00 p.m., Eastern Standard Time, Monday through Friday.

SUPPLEMENTARY INFORMATION: The President signed the Agriculture Improvement Act of 2018 (the Farm Bill) into law on December 20, 2018. Title VIII, Subtitle G, Section 8705, of the Farm Bill requires regulations that streamline the process for evaluating applications for communications facilities on NFS lands. The Forest Service published revisions to its special use regulations on April 8, 2020 (85 FR 19660). The Forest Service issued proposed directives that would work in conjunction with that rule. The Forest Service is requesting comments on the proposed directives, available online at https://cara.ecosystem-management.org/Public/CommentInput?project=ORMS-2525.

After the public comment period closes, the Forest Service will consider timely comments that are within the scope of the proposed directives in the development of the final directives. A notice of the final directives, including a response to timely comments, will be posted on the Forest Service's web page at https://www.fs.fed.us/about-agency/regulations-policies.

Tina Johna Terrell,
Associate Deputy Chief, National Forest System.

[FR Doc. 2020-11830 Filed 6-3-20; 8:45 am]

BILLING CODE 3411-15-P